DEPARTMENT OF THE INTERIOR

Bureau of Land Management

[LLMTB05000-L14300000-FQ0000; MTM 41529 and MTM 41534]

Public Land Order No. 7745; Partial Revocation of Power Site Reserve Nos. 510 and No. 515; Montana

AGENCY: Bureau of Land Management, Interior.

ACTION: Public Land Order.

SUMMARY: This order partially revokes two withdrawals created by Executive Orders insofar as they affect approximately 170 acres of public lands withdrawn for Power Site Reserve Nos. 510 and 515. This order also opens the lands to exchange.

DATES: Effective Date: July 15, 2010.

FOR FURTHER INFORMATION CONTACT: Angela Brown, BLM Dillon Field Office, 1005 Selway Drive, Dillon, Montana 59725-9431, 406-683-8045, or Sandra Ward, BLM Montana State Office, 5001 Southgate Drive, Billings, Montana 59101-4669, 406-896-5052.

SUPPLEMENTARY INFORMATION: The Bureau of Land Management has determined that portions of Power Site Reserve Nos. 510 and 515 are no longer needed and partial revocation of the withdrawals is needed to facilitate a pending land exchange. The Federal Energy Regulatory Commission has no objections to the revocation.

Order

By virtue of the authority vested in the Secretary of the Interior by Section 204 of the Federal Land Policy and Management Act of 1976, 43 U.S.C. 1714, and Section 24 of the Act of June 10, 1920, 16 U.S.C. 818, it is ordered as follows:

1. The withdrawals created by Executive Orders dated November 3, 1915 and December 13, 1915, which established Power Site Reserve Nos. 510 and 515 respectively, are hereby revoked insofar as they affect the following described lands:

Principal Meridian, Montana

Power Site Reserve No. 510

T. 4 S., R. 9 W.

Sec. 11, SW¼NW¼.

Power Site Reserve No. 515

T. 5 S., R. 8 W.

Sec. 6, lots 4, 5, and 6, and that portion of the NE¼SW¼ lying west of Highway 91. The areas described aggregate approximately 170.00 acres in Beaverhead and Madison Counties.

2. The State of Montana has been notified of their 90-day preference right for public highway rights-of-way or material sites. Any location, entry, selection, or subsequent patent shall be subject to any rights granted to the State as provided by Section 24 of the Act of June 10, 1920, as amended, 16 U.S.C. 818.

3. At 9 a.m. on July 15, 2010 the lands described in Paragraph 1 are hereby opened to and made available for exchange in accordance with Section 206 of the Federal Land Policy and Management Act of 1976, subject to the provisions of Section 24 of the Federal Power Act, valid existing rights, the provisions of existing withdrawals, other segregations of record, and the requirements of applicable law.

(Authority: 43 CFR part 2370; 43 CFR subpart 2320)

Dated: June 30, 2010.
Wilma A. Lewis,
Assistant Secretary—Land and Minerals Management.

[FR Doc. 2010-17236 Filed 7-14-10; 8:45 am]

BILLING CODE 4310-$$-P